DEPARTMENT OF AGRICULTURE

Rural Utilities Service

Basin Electric Power Cooperative; Notice of Finding of No Significant Impact

AGENCY: Rural Utilities Service, USDA.

ACTION: Notice of Finding of No Significant Impact.

SUMMARY: Notice is hereby given that the Rural Utilities Service (RUS) has made a Finding of No Significant Impact (FONSI) with respect to a request from Basin Electric Power Cooperative for assistance to finance the construction, operation, and maintenance of a 115.5 MW wind-powered electric generating facility (the Proposal) in Ward County, North Dakota.

ADDRESSES: The FONSI is available for public review at the USDA Rural Utilities Service's Web site— http://www.usda.gov/rus/water/ees/ea.htm or at 1400 Independence Avenue, SW., Room 2244, Stop 1571, Washington, DC 20250-1571; and at Basin's headquarters office located at 1717 East Interstate Avenue, Bismarck, ND 58503-0564.

Contacts: To obtain copies of the FONSI or for further information, contact Dennis Rankin, Environmental Protection Specialist, USDA, Rural Utilities Service, 1400 Independence Avenue, SW., Stop 1571 Washington, DC 20250-1571, Telephone: (202) 720-1953 or e-mail: dennis.rankin@wdc.usda.gov.

SUPPLEMENTARY INFORMATION: Basin Electric proposes to construct a new 115.5 MW wind generation facility in north-central North Dakota. The project will include seventy-seven (77) 1.5 MW wind turbine generators and be located approximately 15 miles south of Minot, North Dakota. Tetra Tech, an environmental consulting firm, prepared an Environmental Report for RUS. RUS conducted an independent evaluation of the Environmental Report and agreed that it accurately assessed the impacts of the Proposal. RUS accepted the document as its Environmental Assessment and published the document for a 30-day public comment period. The applicant is responsible for obtaining all permits required to construct the Proposal.

Pursuant to 36 CFR 800.4(d)(1) of the regulations (36 CFR Part 800) implementing Section 106 of the National Historic Preservation Act (NHPA), 16 U.S.C. 470f, RUS made a finding that this Proposal will not affect historic properties. RUS received no objection to this finding of effect from the North Dakota State Historic Preservation Office or other consulting parties. RUS has determined this finding of no historic properties affected made pursuant to Section 106 of NHPA.

In accordance with the National Environmental Policy Act, as amended (42 U.S.C. 4321 et seq.), the Council on Environmental Quality Regulations (40 CFR 1500-1508), and RUS' Environmental Policies and Procedures (7 CFR Part 1794), RUS has determined that the environmental impacts of the Proposal have been adequately addressed and that no significant impacts to the quality of the human environment would result from the construction and operation of the Proposal. Any final action by RUS related to the Proposal will be subject to, and contingent upon, compliance with all relevant federal and state environmental laws and regulations. Since RUS' action will not result in significant impacts to the quality of the human environment, the preparation of an Environmental Impact Statement related to the proposed project is not necessary.

Dated: August 14, 2009.
Nivin Elgohary,
Acting Assistant Administrator—Electric, Rural Utilities Service.

[FR Doc. E9-20076 Filed 8-20-09; 8:45 am]

BILLING CODE 3410-15-P